DEPARTMENT OF ENERGY

Federal Energy Regulatory Commission

[ Docket Nos. EG13-17-000 et al.]

Notice of Effectiveness of Exempt Wholesale Generator Status

| Docket Nos.
CPV Shore, LLC | EG13-17-000
Goldwaite Wind Energy LLC | EG13-18-000
Patua Project LLC | EG13-19-000
Alta Wind X, LLC | EG13-21-000
Alta Wind XI, LLC | EG13-22-000

Take notice that during the month of May 2013, the status of the above-captioned entities as Exempt Wholesale Generators Companies became effective by operation of the Commission's regulations, 18 CFR 366.7(a).

Dated: June 7, 2013.
Kimberly D. Bose,
Secretary.

[FR Doc. 2013-14059 Filed 6-12-13; 8:45 am]

BILLING CODE 6717-01-P